DEPARTMENT OF EDUCATION

Office of Special Education and Rehabilitative Services; Overview Information; Technical Assistance and Dissemination To Improve Services and Results for Children With Disabilities; Personnel Development To Improve Services and Results for Children With Disabilities; and Technology and Media Services for Individuals With Disabilities—Postsecondary Education Programs for Individuals Who Are Deaf; Notice Inviting Applications for New Awards for Fiscal Year (FY) 2006

Catalog of Federal Domestic Assistance (CFDA) Number: 84.326D

Dates: Applications Available: June 8, 2006.

Deadline for Transmittal of Applications: July 24, 2006.

Deadline for Intergovernmental Review: September 21, 2006.

Eligible Applicants: State educational agencies (SEAs), local educational agencies (LEAs), public charter schools that are LEAs under State law, institutions of higher education (IHEs), other public agencies, private nonprofit organizations, outlying areas, freely associated States, Indian tribes or tribal organizations, and for-profit organizations.

Estimated Available Funds: $4,000,000. Included in this amount is $1,300,000 to be provided from the Technical Assistance and Dissemination to Improve Services and Results for Children with Disabilities program; $1,700,000 from the Personnel Development to Improve Services and results for Children with Disabilities program; and $1,000,000 from the Technology and Media Services for Individuals with Disabilities program.

Maximum Award: We will reject any application that proposes a budget that does not equal $1,000,000 for a single budget period of 12 months.

Note: In each budget period of 12 months $325,000 must be budgeted for the technical assistance and dissemination activities described under Technical Assistance and Dissemination Activities (Consistent with section 663(c)(8)(C) of the Individuals with Disabilities Education Act, as amended (IDEA)); $425,000 must be budgeted for the personnel development activities described under Personnel Development Activities (Consistent with section 662(c)(2) of IDEA); and $250,000 must be budgeted for the technology use activities described under Technology Use Activities (Consistent with section 674(b) of IDEA). The Assistant Secretary for Special Education and Rehabilitative Services may change these amounts through a notice published in the Federal Register.

Estimated Number of Awards: 4.

Note: The Department is not bound by any estimates in this notice.

Project Period: Up to 60 months.

Full Text of Announcement

I. Funding Opportunity Description

Purpose of Program: The Technical Assistance and Dissemination to Improve Services and Results for Children with Disabilities program promotes academic achievement and improves results for children with disabilities by supporting technical assistance, model demonstration projects, dissemination of useful information, and implementation activities that are supported by scientifically-based research. The Personnel Development to Improve Services and Results for Children with Disabilities program:

(1) Helps address State-identified needs for highly qualified personnel—in special education, related services, early intervention, and regular education—to work with children with disabilities and (2) ensures that those personnel have the skills and knowledge—derived from practices that have been determined through research and experience to be successful—that are needed to serve those children. The Technology and Media Services for Individuals with Disabilities program (1) improves results for children with disabilities by promoting the development, demonstration, and use of technology, (2) supports educational media services activities designed to be of educational value in the classroom setting to children with disabilities, and (3) provides support for captioning and video description that is appropriate for use in the classroom setting.

Priority: In accordance with 34 CFR 75.105(b)(2)(v), this priority is from allowable activities specified in the statute (see sections 662(c)(2), 663(c)(8)(C), 674(b), and 681(d) of IDEA).

Absolute Priority: For FY 2006 this priority is an absolute priority. Under 34 CFR 75.105(c)(3), we consider only applications that meet this priority.

This priority is:

Postsecondary Education Programs for Individuals who are Deaf

Background

Section 682(d)(1)(B) of IDEA requires the Secretary of Education to provide not less than $4,000,000 of the funds appropriated under Part D, subparts 2 and 3 of IDEA to address the postsecondary, vocational, technical, continuing, and adult education needs of individuals with deafness. The Secretary intends to meet this requirement through funding new awards under this competition in fiscal year 2007 and by providing continuation awards in fiscal years 2008 through 2011.

Priority

This priority provides support for four regional centers that will help secondary and postsecondary institutions more effectively address the postsecondary, vocational, technical, continuing, and adult education needs of individuals with deafness, including those who are deaf with co-occurring disabilities such as learning and emotional disabilities.

With the objective of improving results for students who are deaf, each regional center must conduct: (1) Technical assistance and dissemination activities authorized under section 663(c)(8)(C) of IDEA, (2) personnel development activities authorized under section 662(c)(2) of IDEA, and (3) technology use activities authorized under section 674(b) of IDEA. In carrying out the objectives of this priority, each center must take into account the population and size of each State where services are provided to help ensure that services are provided equitably within the targeted region.

To ensure that all States benefit from these projects, the Secretary will support four projects. Projects will be required to serve each State within one of the following regions:

Northeast Region—Connecticut, Delaware, District of Columbia, Maine, Maryland, Massachusetts, New Hampshire, New Jersey, New York, Pennsylvania, Puerto Rico, Rhode Island, Vermont, and U.S. Virgin Islands.

Southern Region—Alabama, Arkansas, Florida, Georgia, Kentucky, Louisiana, Mississippi, North Carolina, South Carolina, Tennessee, Texas, Virginia, and West Virginia.

Midwest Region—Illinois, Indiana, Iowa, Kansas, Michigan, Minnesota, Missouri, Nebraska, North Dakota, Ohio, Oklahoma, South Dakota, and Wisconsin.

Western Region—Alaska, American Samoa, Arizona, California, Colorado, Commonwealth of the Northern Marianas Islands, Federated States of Micronesia, Guam, Hawaii, Idaho, Montana, Nevada, New Mexico, Oregon, Republic of the Marshall Islands, Republic of Palau, Utah, Washington, and Wyoming.

Technical Assistance and Dissemination Activities (Consistent with section 663(c)(8)(C) of IDEA)

Each regional center's technical assistance and dissemination activities must, at a minimum—

(a) Conduct an assessment to determine current technical assistance needs and priorities of postsecondary institutions related to recruiting, enrolling, retaining, and instructing students who are deaf, and addressing the varying communication needs of and methods used by individuals who are deaf, such as oral transliteration services, cued language transliteration services, sign language transliteration and interpreting services, and transcription services.

(b) Provide consultation, in-service training, and planning and development assistance to appropriate staff at postsecondary education institutions to address the needs identified in the assessment conducted under paragraph (a). These activities must (1) be designed to enhance access to programs by and accommodation of individuals who are deaf and (2) as needed, provide information about continuing and adult education programs that are available to help students who are deaf further develop their basic skills to prepare them to enter job training programs or matriculate into postsecondary education programs.

(c) Provide technical assistance to secondary and postsecondary institutions, vocational rehabilitation agencies, community service agencies, centers for independent living, and One Stop Centers funded under the Workforce Investment Act within the region. These technical assistance activities must focus on (1) the responsibilities of postsecondary education institutions under Federal statutes, including section 504 of the Rehabilitation Act of 1973, as amended, and the Americans with Disabilities Act, with respect to students who are deaf, and (2) the implementation of effective systems of postsecondary educational supports for students who are deaf.

(d) Disseminate information about resources (e.g., financial, support services) available to students who are deaf and to postsecondary institutions to help them accommodate these students.

(e) Encourage the use of consortia of postsecondary institutions and other cooperative arrangements to provide services and assistance to students who are deaf, including coordination of postsecondary education options with existing public and private community services that may address the educational, remedial, support service, transitional, independent living, and employment needs of individuals who are deaf.

(f) Provide, in collaboration with postsecondary education programs, vocational rehabilitation agencies, and public and private community service agencies, technical assistance to professionals, parents, and families to improve postsecondary educational services to individuals with deafness, including those who are deaf with co-occurring disabilities such as learning and emotional disabilities.

Personnel Development Activities (Consistent with section 662(c)(2) of IDEA)

Each regional center's personnel development activities must, at a minimum—

(a) Conduct an assessment of the personnel development training needs of secondary school professional and support staff (e.g., teachers, counselors, transition specialists, and other support personnel) who provide transitional services to students who are deaf.

(b) Conduct an assessment of the personnel development training needs of postsecondary, vocational, and adult education professional and support staffs who provide transitional and postsecondary educational services to students who are deaf.

(c) Provide interdisciplinary training to secondary and postsecondary teachers, guidance counselors, interpreters, speech pathologists, audiologists, social workers, rehabilitation counselors, and other staff, that addresses the needs identified in the assessments conducted under paragraphs (a) and (b) and that will contribute to improvements in transitional and postsecondary educational results for students who are deaf.

(d) Train personnel in the innovative uses and applications of technology, including universally designed technologies, assistive technology devices, and assistive technology services.

(e) Provide specialized in-service training on key topics, such as orientation to deafness, to personnel who provide postsecondary services to students who are deaf and have limited English proficiency or secondary disabilities.

Technology Use Activities (Consistent with section 674(b) of IDEA)

Each regional center's technology use activities must, at a minimum—

(a) Conduct an assessment to determine the technology needs and priorities of postsecondary institutions related to recruiting, enrolling, retaining, and instructing students who are deaf, and addressing the varying communication needs of and methods used by individuals who are deaf, such as oral transliteration services, cued language transliteration services, sign language transliteration and interpreting services, and transcription services.

(b) Provide technical assistance and consultation, in-service training, and planning and development assistance to administrators, faculty, and support staff at postsecondary education institutions to address the needs identified in the assessment conducted under paragraph (a). These activities must (1) be designed to enhance access to programs by and accommodation of individuals who are deaf; and (2) as needed, provide information and technological support and in-service training to personnel at postsecondary institutions who provide services to students who are deaf.

(c) Demonstrate how postsecondary institutions can use technology to meet their responsibilities under Federal statutes, including section 504 of the Rehabilitation Act of 1973, as amended, and the Americans with Disabilities Act, to provide access and accommodations to individuals who are deaf.

In addition, the four regional centers must coordinate the development and implementation of all required activities (e.g., needs assessments, materials development, personnel development training, technical assistance, outreach, and information dissemination) for the purpose of avoiding overlap and duplication of efforts. Centers must ensure that secondary education programs, parents, and individuals who are deaf have information on postsecondary programs throughout the country, including information on services these institutions provide, and that information on proven models and other exemplary practices, including innovative technology, is available in each of the four regions. This coordination must include carrying out collaborative activities and cross-regional initiatives, where appropriate.

In addition, each center must—

(a) Coordinate with the National Dissemination Center for Children with Disabilities to ensure timely and accurate dissemination of information and report to the Office of Special Education Programs (OSEP) project officer on coordination efforts and proposed coordination outcomes.

(b) Prior to developing any new product, whether paper or electronic, submit for review and approval a proposal describing the content and purpose of the product to the Product Advisory Board of the National Dissemination Center for Children with Disabilities.

(c) Contribute to the maintenance of a single user-friendly Web site for the four centers, with individual links to grantee host institutions, that includes relevant information and documents in a form that meets a government or industry-recognized standard for accessibility.

(d) Develop a strategic plan for conducting needs assessments for personnel development, technical assistance and dissemination, and technology use activities within the first three months of the grant award. This plan must be submitted to the OSEP Project Officer for review and approval and updated annually.

(e) Ensure that the information and services provided respond to the needs assessments, are based on evidence-based research to the extent possible, and use criteria established by the What Works Clearinghouse or other rigorous standards for determining what is evidence-based.

(f) Retain the services of an independent external evaluator to provide consultation in developing a formative and summative evaluation plan to report inter/intra regional center activities in the annual grant performance reports. Such plan will be submitted to the Department for review and approval no later than 90 days before the first annual performance reports are due. The centers shall address how the effectiveness and outcomes of its activities shall be measured.

(g) Maintain communication with the OSEP Project Officer through monthly phone conversations and e-mail communication, as needed. Each center must submit annual performance reports and provide additional written materials as needed by the OSEP Project Officer to monitor the centers' work.

(h) Establish, maintain, and meet at least annually with an advisory committee consisting of individuals with deafness, parents, educators, researchers, and other appropriate individuals to review and advise on the center's activities and plans.

(i) Budget for annual attendance at the three-day Technical Assistance Project Directors' meeting and at least two two-day planning meetings in Washington, DC. The center must also budget to attend three two-day meetings such as Department briefings, Department-sponsored conferences, and other OSEP-requested activities.

Fourth and Fifth Years of Project

In deciding whether to continue each project for the fourth and fifth years, the Secretary will consider requirements of 34 CFR 75.253(a), and in addition—

(a) The recommendations of a review team consisting of experts selected by the Secretary that will conduct its review in Washington, DC during the last half of each project's second year. Projects must budget for travel expenses associated with this one-day intensive review.

(b) The timeliness and effectiveness with which all requirements of the negotiated cooperative agreement have been or are being met by the center; and

(c) Evidence of the degree to which the center's activities contributed to changed practices and improved postsecondary education and training outcomes for youth with deafness.

Waiver of Proposed Rulemaking: Under the Administrative Procedure Act (APA) (5 U.S.C. 553), the Department generally offers interested parties the opportunity to comment on proposed priorities. However, section 681(d) of IDEA makes the public comment requirements under the APA inapplicable to the priority in this notice.

Program Authority: 20 U.S.C. 1462(c)(2), 1463(c)(8)(C), 1474(b), and 1481(d).

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply to IHEs only.

II. Award Information

Type of Award: Cooperative agreement.

Estimated Available Funds: $4,000,000. Included in this amount is $1,300,000 to be provided from the Technical Assistance and Dissemination to Improve Services and Results for Children with Disabilities program; $1,700,000 from the Personnel Development to Improve Services and results for Children with Disabilities program; and $1,000,000 from the Technology and Media Services for Individuals with Disabilities program.

Maximum Award: We will reject any application that proposes a budget that does not equal $1,000,000 for a single budget period of 12 months.

Note: In each budget period of 12 months $325,000 must be budgeted for the technical assistance and dissemination activities described under Technical Assistance and Dissemination Activities (Consistent with section 663(c)(8)(C) of IDEA); $425,000 must be budgeted for the personnel development activities described under Personnel Development Activities (Consistent with section 662(c)(2) of IDEA); and $250,000 must be budgeted for the technology use activities described under Technology Use Activities (Consistent with section 674(b) of IDEA). The Assistant Secretary for Special Education and Rehabilitative Services may change these maximum amounts through a notice published in the Federal Register.

Number of Awards: 4.

Note: The Department is not bound by any estimates in this notice.

Project Period: Up to 60 months.

III. Eligibility Information

1. Eligible Applicants: SEAs, LEAs, public charter schools that are LEAs under State law, IHEs, other public agencies, private nonprofit organizations, outlying areas, freely associated States, Indian tribes or tribal organizations, and for-profit organizations.

2. Cost Sharing or Matching: This competition does not involve cost sharing or matching.

3. Other: General Requirements—(a) the projects funded under this competition must make positive efforts to employ and advance in employment-qualified individuals with disabilities (see section 606 of IDEA). (b) Applicants and grant recipients funded under this competition must involve individuals with disabilities or parents of individuals with disabilities ages birth through 26 in planning, implementing, and evaluating the projects (see section 682(a)(1)(A) of IDEA).

IV. Application and Submission Information

1. Address to Request Application Package: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html or you may contact ED Pubs at its e-mail address: edpubs@inet.ed.gov If you request an application from ED Pubs, be sure to identify this competition as follows: CFDA Number 84.326D.

Individuals with disabilities may obtain a copy of the application package in an alternative format (e.g., Braille, large print, audiotape, or computer diskette) by contacting the Grants and Contracts Services Team listed under FOR FURTHER INFORMATION CONTACT in section VII of this notice.

2. Content and Form of Application Submission: Requirements concerning the content of an application, together with the forms you must submit, are in the application package for this competition. Page Limit: The application narrative (Part III of the application) is where you, the applicant, address the selection criteria that reviewers use to evaluate your application. You must limit Part III to the equivalent of no more than 50 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to Part I, the cover sheet; Part II, the budget section, including the narrative budget justification; Part IV, the assurances and certifications; the one-page abstract, the resumes, the bibliography, the references, or the letters of support. However, you must include all of the application narrative in Part III.

We will reject your application if—

• You apply these standards and exceed the page limit; or

• You apply other standards and exceed the equivalent of the page limit.

3. Submission Dates and Times:

Applications Available: June 8, 2006.

Deadline for Transmittal of Applications: July 24, 2006.

Applications for grants under this competition may be submitted electronically using the Grants.gov Apply site (Grants.gov), or in paper format by mail or hand delivery. For information (including dates and times) about how to submit your application electronically, or by mail or hand delivery, please refer to section IV. 6. Other Submission Requirements in this notice.

We do not consider an application that does not comply with the deadline requirements. Deadline for Intergovernmental Review: September 21, 2006.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this competition may be submitted electronically or in paper format by mail or hand delivery.

a. Electronic Submission of Applications.

We have been accepting applications electronically through the Department's e-Application system since FY 2000. In order to expand on those efforts and comply with the President's Management Agenda, we are continuing to participate as a partner in the new government wide Grants.gov Apply site in FY 2006. The Postsecondary Education Programs for Individuals who are Deaf—CFDA Number 84.326D is one of the competitions included in this project. We request your participation in Grants.gov.

If you choose to submit your application electronically, you must use the Grants.gov Apply site at http://www.Grants.gov. Through this site, you will be able to download a copy of the application package, complete it offline, and then upload and submit your application. You may not e-mail an electronic copy of a grant application to us.

You may access the electronic grant application for The Postsecondary Education Programs for Individuals who are Deaf at: http://www.grants.gov. You must search for the downloadable application package for this program by the CFDA number. Do not include the CFDA number's alpha suffix in your search.

Please note the following:

• Your participation in Grants.gov is voluntary.

• When you enter the Grants.gov site, you will find information about submitting an application electronically through the site, as well as the hours of operation.

• Applications received by Grants.gov are time and date stamped. Your application must be fully uploaded and submitted, and must be date/time stamped by the Grants.gov system no later than 4:30 p.m., Washington, DC time, on the application deadline date. Except as otherwise noted in this section, we will not consider your application if it is date/time stamped by the Grants.gov system later than 4:30 p.m., Washington, DC time, on the application deadline date. When we retrieve your application from Grants.gov, we will notify you if we are rejecting your application because it was date/time stamped by the Grants.gov system after 4:30 p.m., Washington, DC time, on the application deadline date.

• The amount of time it can take to upload an application will vary depending on a variety of factors including the size of the application and the speed of your Internet connection. Therefore, we strongly recommend that you do not wait until the application deadline date to begin the application process through Grants.gov.

• You should review and follow the Education Submission Procedures for submitting an application through Grants.gov that are included in the application package for this competition to ensure that you submit your application in a timely manner to the Grants.gov system. You can also find the Education Submission Procedures pertaining to Grants.gov at http://e-Grants.ed.gov/help/GrantsgovSubmissionProcedures.pdf

• To submit your application via Grants.gov, you must complete all of the steps in the Grants.gov registration process (see http://www.Grants.gov/GetStarted). These steps include (1) registering your organization, (2) registering yourself as an Authorized Organization Representative (AOR), and (3) getting authorized as an AOR by your organization. Details on these steps are outlined in the Grants.gov 3-Step Registration Guide (see http://www.grants.gov/assets/GrantsgovCoBrandBrochure8X11.pdf). You also must provide on your application the same D U N S Number used with this registration. Please note that the registration process may take five or more business days to complete, and you must have completed all registration steps to allow you to successfully submit an application via Grants.gov.

• You will not receive additional point value because you submit your application in electronic format, nor will we penalize you if you submit your application in paper format.

• You may submit all documents electronically, including all information typically included on the Application for Federal Education Assistance (ED 424), Budget Information—Non-Construction Programs (ED 524), and all necessary assurances and certifications. If you choose to submit your application electronically, you must attach any narrative sections of your application as files in a .DOC (document), .RTF (rich text), or .PDF (Portable Document) format. If you upload a file type other than the three file types specified above or submit a password protected file, we will not review that material.

• Your electronic application must comply with any page limit requirements described in this notice.

• After you electronically submit your application, you will receive an automatic acknowledgment from Grants.gov that contains a Grants.gov tracking number. The Department will retrieve your application from Grants.gov and send you a second confirmation by e-mail that will include a PR/Award number (an ED-specified identifying number unique to your application).

• We may request that you provide us original signatures on forms at a later date.

Application Deadline Date Extension in Case of System Unavailability

If you are prevented from electronically submitting your application on the application deadline date because of technical problems with the Grants.gov system, we will grant you an extension until 4:30 p.m., Washington, DC time, the following business day to enable you to transmit your application electronically, or by hand delivery. You also may mail your application by following the mailing instructions as described elsewhere in this notice. If you submit an application after 4:30 p.m., Washington, DC time, on the deadline date, please contact the person listed elsewhere in this notice under For Further Information Contact, and provide an explanation of the technical problem you experienced with Grants.gov, along with the Grants.gov Support Desk Case Number (if available). We will accept your application if we can confirm that a technical problem occurred with the Grants.gov system and that that problem affected your ability to submit your application by 4:30 p.m., Washington, DC time, on the application deadline date. The Department will contact you after a determination is made on whether your application will be accepted.

Note: Extensions referred to in this section apply only to the unavailability of or technical problems with the Grants.gov system. We will not grant you an extension if you failed to fully register to submit your application to Grants.gov before the deadline date and time or if the technical problem you experienced is unrelated to the Grants.gov system.

b. Submission of Paper Applications by Mail.

If you submit your application in paper format by mail (through the U.S. Postal Service or a commercial carrier), you must mail the original and two copies of your application, on or before the application deadline date, to the Department at the applicable following address:

By mail through the U.S. Postal Service: U.S. Department of Education, Application Control Center, Attention: (CFDA Number 84.326D), 400 Maryland Avenue, SW., Washington, DC 20202-4260

or

By mail through a commercial carrier: U.S. Department of Education, Application Control Center—Stop 4260, Attention: (CFDA Number 84.326D), 7100 Old Landover Road, Landover, MD 20785-1506

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.326D), 550 12th Street, SW., Room 7041, Potomac Center Plaza, Washington, DC 20202-4260.

The Application Control Center accepts hand deliveries daily between 8 a.m. and 4:30 p.m., Washington, DC time, except Saturdays, Sundays and Federal holidays.

Note for Mail or Hand Delivery of Paper Applications: If you mail or hand deliver your application to the Department:

(1) You must indicate on the envelope and—if not provided by the Department—in Item 4 of the Application for Federal Education Assistance (ED 424) the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

Selection Criteria: The selection criteria for this competition are from 34 CFR 75.210 and are listed in the application package.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: Under the Government Performance and Results Act (GPRA), the Department has developed measures that will yield information on various aspects of the Technical Assistance and Dissemination to Improve Services and Results for Children with Disabilities program. These measures, which will be used for the Postsecondary Education Programs for Individuals who are Deaf competition, focus on: The extent to which projects provide high quality products and services, the relevance of project products and services to educational and early intervention policy and practice, and the use of products and services to improve educational and early intervention policy and practice.

We will notify grantees if they will be required to provide any information related to these measures.

Grantees will also be required to report information on their projects' performance in annual reports to the Department (34 CFR 75.590).

VII. Agency Contact

For Further Information Contact: Louise Tripoli, U.S. Department of Education, 400 Maryland Avenue, SW., room 4117, Potomac Center Plaza, Washington, DC 20202-2550. Telephone: (202) 245-7554.

If you use a telecommunications device for the deaf (TDD), you may call the Federal Relay Service (FRS) at 1-800-877-8339.

Individuals with disabilities may obtain this document in an alternative format (e.g., Braille, large print, audiotape, or computer diskette) on request by contacting the following office: The Grants and Contracts Services Team, U.S. Department of Education, 400 Maryland Avenue, SW., Potomac Center Plaza, Washington, DC 20202-2550. Telephone: (202) 245-7363.

VIII. Other Information

Electronic Access to This Document: You may view this document, as well as all other documents of this Department published in the Federal Register, in text or Adobe Portable Document Format (PDF) on the Internet at the following site: http://www.ed.gov/news/fedregister

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html

Dated: June 2, 2006.
John H. Hager,
Assistant Secretary for Special Education and Rehabilitative Services.

[FR Doc. E6-8913 Filed 6-7-06; 8:45 am]

BILLING CODE 4000-01-P